FEDERAL EMERGENCY MANAGEMENT AGENCY

44 CFR Part 67

Final Flood Elevation Determinations

AGENCY: Federal Emergency Management Agency (FEMA).

ACTION: Final rule.

SUMMARY: Base (1-percent-annual-chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATE: The date of issuance of the Flood Insurance Rate Map (FIRM) showing base flood elevations and modified base flood elevations for each community. This date may be obtained by contacting the office where the FIRM is available for inspection as indicated in the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Associate Director for Mitigation certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 67

Administrative practice and procedure, Flood insurance, Reporting and recordkeeping requirements.

Accordingly, 44 CFR Part 67 is amended to read as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. *Elevation in feet (NGVD).
IOWA
Harrison County (Unincorporated Areas) (FEMA Docket No. 7302)
Missouri River:
Approximately 20,000 feet downstream of Highway 30 | *1,005
Approximately 10,000 feet upstream of 120th Street | *1,032
Maps are available for inspection at the Harrison County, Emergency Management Agency, 116 North 2nd Avenue, Logan, Iowa.
———
Polk County (Unincorporated Areas) (FEMA Docket No. 7306)
Beaver Creek:
At mouth (approximately 3,950 feet downstream from Northwest Beaver Drive) | *805
Approximately 950 feet downstream from Northwest Beaver Drive | *806
Approximately 5,650 feet upstream of Northwest Beaver Drive | *810
Maps are available for inspection at the Planning Division, 5895 NE 14th Street, Des Moines, Iowa.
KANSAS
Holton (City), Jackson County (FEMA Docket No. 7306)
Banner Creek:
At Union Pacific Railroad | *1,017
At “P” Road | *1,035
Maps are available for inspection at City Hall, 430 Pennsylvania Avenue, Holton, Kansas.
———
Jackson County (Unincorporated Areas) (FEMA Docket No. 7306)
Banner Creek:
At its confluence with Elk Creek | *1,002
At “M” Road | *1,092
Maps are available for inspection at the Planning and Zoning Office, 500 Illinois Avenue, Holton, Kansas.
———
Reno County and Incorporated Areas (FEMA Docket No. 7306)
Arkansas River:
Just downstream of State Route 50 | *1,517
Just downstream of Union Pacific Railroad | *1,523
Unnamed Tributary to Sand Creek:
Just upstream of U.S. Highway 50 | *1,519
Just downstream of Main Street | *1,531
Maps are available for inspection at the Public Works Department, 206 W. 1st Avenue, Hutchinson, Kansas.
Maps are available for inspection at City Hall, 2 South Main, South Hutchinson, Kansas.
Maps are available for inspection at the Planning Department, 125 E. Avenue B, Hutchinson, Kansas.
NEVADA
Mineral County (Unincorporated Areas) (FEMA Docket No. 7302)
Corey Creek:
Approximately 50 feet downstream of U.S. Highway 95 | *4,253
Approximately 3.6 miles upstream of 1st Street in Hawthorne | *5,028
Corey Creek Overflow:
Approximately 500 feet upstream of State Highway 359 | *4,858
Approximately 1,500 feet upstream of State Highway 359 | *4,906
Maps are available for inspection at the Mineral County Courthouse, Clerk and Treasurer's Office, Corner of 1st and A Street, Hawthorne, Nevada.
OKLAHOMA
Roger Mills County and Incorporated Areas (FEMA Docket No. 7306)
White Shield Creek Tributary “B”:
At its confluence with White Shield Creek | *1,737
Approximately 150 feet upstream of Steele Street | *1,778
White Shield Creek:
At State Route 34 | *1,702
Approximately 50 feet upstream from Steele Street | *1,754
Memorial Park Tributary:
At its confluence with Sergeant Major Creek | *1,938
Approximately 884 feet upstream from U.S. Highway 283 (Main Street) | *1,977
Dry Creek:
At its confluence with Sergeant Major Creek | *1,941
Approximately 8,400 feet upstream of confluence with Sergeant Major Creek | *1,985
Sergeant Major Creek:
At its confluence with Washita River | *1,923
Approximately 8,600 feet upstream from confluence with Dry Creek | *1,974
Washita River:
At State Route 34 | *1,703
Approximately 16,800 feet upstream from its confluence with Sergeant Major Creek | *1,949
Maps are available for inspection at the County Courthouse, Llmales and Broadway Avenue, Cheyenne, Oklahoma.
Maps are available for inspection at City Hall, 714 Main Street, Hammon, Oklahoma.
Maps are available for inspection at City Hall, 317 N. Broadway, Cheyenne, Oklahoma.
OREGON
Clackamas County (Unincorporated Areas) (FEMA Docket No. 7302)
Tickle Creek:
Approximately 2,600 feet downstream of Southeast 362nd Avenue | *672
Approximately 2,350 feet upstream of Southeast 395th Avenue | *1,011
Maps are available for inspection at the Clackamas County Department of Transportation and Development, 902 Abernathy Road, Oregon City, Oregon.
———
Sandy (City), Clackamas County (FEMA Docket No. 7302)
Tickle Creek:
Approximately 1,980 feet downstream of 362nd Avenue | *684
Approximately 1,620 feet upstream of Highway 211 | *946
Maps are available for inspection at the Planning and Development Department, 39250 Pioneer Boulevard, Sandy, Oregon.
TEXAS
Kerr County and Incorporated Areas (FEMA Docket No. 7278)
Stream TC-1:
Approximately 2,300 feet downstream of Interstate Highway 10 | *1,662
Just upstream of Interstate Highway 10 | *1,718
Stream QC-2:
Just downstream of State Highway 16 | *1,706
Just upstream of Interstate Highway 10 | *1,761
Stream QC-1:
Just upstream of Leslie Road | *1,688
Approximately 200 feet upstream of Interstate Highway 10 | *1,801
Quinlan Creek:
Just upstream of State Highway 27 | *1,606
Approximately 900 feet upstream of Interstate Highway 10 | *1,719
Town Creek:
Just upstream of State Highway 27 | *1,624
Approximately 200 feet downstream of Schreiner Road | *1,630
Approximately 900 feet upstream of Interstate Highway 10 | *1,689
Elm Creek:
Approximately 600 feet upstream of Goat Creek Road | *1,649
Approximately 800 feet upstream of Laurel Wood Drive | *1,764
Camp Meeting Creek:
Approximately 500 feet downstream of Preston Trail | *1,592
Approximately 2,100 feet upstream of Southway Drive | *1,699
Maps are available for inspection at the Upper Guadalupe River Authority, 125 Lehmann Drive, Kerrville, Texas.
Maps are available for inspection at the City of Kerrville, 800 Junction Highway, Kerrville, Texas.
WASHINGTON
Clark County (Unincorporated Areas) (FEMA Docket No. 7250)
East Fork Lewis River:
Approximately 17,000 feet downstream of Daybreak Road | *32
Approximately 400 feet downstream of Daybreak Road | *75
Maps are available for inspection at the Clark County Department of Community Development, Development Services Division, Office of Engineering Review, 1408 Franklin Street, Vancouver, Washington.

(Catalog of Federal Domestic Assistance No. 83.100, “Flood Insurance.”)
Dated: May 17, 2000.
Michael J. Armstrong,
Associate Director for Mitigation.

[FR Doc. 00-14293 Filed 6-6-00; 8:45 am]

BILLING CODE 6718-04-P